DEPARTMENT OF HOMELAND SECURITY

Coast Guard

33 CFR Part 117

[Docket No. USCG-2018-0950]

Drawbridge Operation Regulation; Hood Canal, Port Gamble, WA

AGENCY: Coast Guard, DHS.

ACTION: Notice of deviation from drawbridge regulation.

SUMMARY: The Coast Guard has issued a temporary deviation from the operating schedule that governs the Washington State pontoon highway bridge (Hood Canal Bridge) across Hood Canal, mile 5.0, near Port Gamble, WA. The deviation is necessary to accommodate replacement newly discovered draw span operating equipment while installing upgrades. This deviation allows the bridge to open the half the draw, 300 feet, after receiving at least a four hour notice.

DATES: This deviation is effective without actual notice from October 23, 2018 to 11:59 p.m. on November 16, 2019. For purposes of enforcement, actual notice will be used from 6 p.m. on October 13, 2018, to October 23, 2018.

ADDRESSES: The docket for this deviation, USCG-2018- 0950 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: The Washington Department of Transportation (WSDOT), the bridge owner, has requested a temporary deviation from the operating schedule of the Hood Canal Bridge. This deviation will allow the subject bridge to open half of the draw span, east half only, to facilitate replacement of worn equipment discovered after installation of upgrades. The Hood Canal Bridge crosses Hood Canal, mile 5.0, near Port Gamble, WA. The bridge has two fixed spans (east and west), and one draw span (center). The east span provides 50 feet of vertical clearance, the west span provides 35 feet of vertical clearance, and the center span provides zero feet of vertical clearance in the closed-to-navigation position. The center span provides unlimited vertical clearance in the open-to-navigation position. Vertical clearances are referenced to mean high-water elevation.

This deviation allows the center span of the Hood Canal Bridge to open half-way (300 feet vice 600 feet) on signal after receiving at least a four hour notice from 6 a.m. on October 13, 2018 to 11:59 p.m. on November 16, 2019. During the period of this deviation, the drawbridge will not be able to operate according to the normal operating schedule. The normal operating schedule for the Hood Canal Bridge is in accordance with 33 CFR 117.1045. The bridge shall operate in accordance to 33 CFR 117.1045 at all other times. Waterway usage on this part of Hood Canal (Admiralty Inlet) includes commercial tugs and barges, U.S. Navy and U.S. Coast Guard vessels, and small pleasure craft. Coordination has been completed with known waterway users, and a no objections to the deviation have been received.

Vessels able to pass through the east and west spans may do so at any time. The center span does not provide passage in the closed-to-navigation position. The subject bridge will be able to open half the center span for Navy and Coast Guard vessels during emergencies, when at least a one hour notice has been given by the Navy or Coast Guard. The Coast Guard will also inform the users of the waterways through our Local and Broadcast Notices to Mariners of the change in operating schedule for the bridge so that vessels can arrange their transits to minimize any impact caused by this temporary deviation.

In accordance with 33 CFR 117.35(e), the drawbridge must return to its regular operating schedule immediately at the end of the effective period of this temporary deviation. This deviation from the operating regulations is authorized under 33 CFR 117.35.

Dated: October 17, 2018.
Steven Fischer,
Chief, Bridge Program, Thirteenth Coast Guard District.

[FR Doc. 2018-23073 Filed 10-22-18; 8:45 am]

BILLING CODE 9110-04-P